DEPARTMENT OF STATE

[Public Notice: 10216]

Advisory Committee on International Postal and Delivery Services

AGENCY: Department of State.

ACTION: Notice of charter renewal of the Advisory Committee on International Postal and Delivery Services (IPoDS).

This notice announces the renewal of the charter or the Advisory Committee on International Postal and Delivery Services (IPoDS). In accordance with the provisions of the 2006 Postal Accountability and Enhancement Act (Pub. L. 109-435) and the Federal Advisory Committee Act (Pub. L. 92-463), the Committee's charter has been extended until November 14, 2019.

The Department of State uses the IPoDS Committee to keep informed of the interests and problems of users and providers of international postal and delivery services. In addition to representative members from affected stakeholder groups, the Committee also includes Federal members from the Department of Commerce, the Department of Homeland Security, the Office of the United States Trade Representative, the Postal Regulatory Commission, the Military Postal Service Agency, and the United States Postal Service. Members are appointed by the Assistant Secretary of State for International Organization Affairs.

FOR FURTHER INFORMATION CONTACT: Ms. Shereece Robinson of the Office of Specialized and Technical Agencies (IO/STA), Bureau of International Organization Affairs, U.S. Department of State, at tel. (202) 663-2649, by email at RobinsonSA2@state.gov or by mail at IO/STA, L409 (SA1); Department of State; 2401 E Street NW; Washington, DC 20037.

Joseph P. Murphy,
Designated Federal Officer, Advisory Committee on International Postal and Delivery Services, Department of State.

[FR Doc. 2017-27029 Filed 12-14-17; 8:45 am]

BILLING CODE 4710-19-P